DEPARTMENT OF HEALTH AND HUMAN SERVICES

Substance Abuse and Mental Health Services Administration

Center for Substance Abuse Treatment; Notice of Meeting

Pursuant to Public Law 92-463, notice is hereby given of the meeting of the Center for Substance Abuse Treatment (CSAT) National Advisory Council on March 20, 2008.

A portion of the meeting is open and will include discussion of the Center's policy issues, and current administrative, legislative, and program developments.

Attendance by the public will be limited to space available. Public comments are welcome. Please communicate with the CSAT Council's Designated Federal Official, Ms. Cynthia Graham (see contact information below), to make arrangements to attend, comment or to request special accommodations for persons with disabilities.

The meeting will also include the review, discussion, and evaluation of grant applications. Therefore, this portion of the meeting will be closed to the public as determined by the Administrator, SAMHSA, in accordance with Title 5 U.S.C. 552b(c)(6) and 5 U.S.C. App.2, Section 10(d).

Substantive program information, a summary of the meeting, and a roster of Council members may be obtained as soon as possible after the meeting, either by accessing the SAMHSA Committee Web site, http://www.nac.samhsa.gov/CSAT/csatnac.aspx, or by contacting Ms. Graham. The transcript for the open session of the meeting will also be available on the SAMHSA Committee Web site within three weeks after the meeting.

Committee Name: Substance Abuse and Mental Health Services Administration, CSAT National Advisory Council.

Date/Time/Type: March 20, 2008, from 9 a.m.-9:30 a.m.: closed, from 9:40 a.m.-4:30 p.m.: open.

Place: 1 Choke Cherry Road, Sugarloaf and Seneca Conference Rooms, Rockville, Maryland 20857.

Contact: Cynthia Graham, M.S., Designated Federal Official, SAMHSA/CSAT National Advisory Council, 1 Choke Cherry Road, Room 5-1036. Rockville, MD 20857, Telephone: (240) 276-1692, FAX: (240) 276-1690, E-mail: cynthia.graham@samhsa.hhs.gov.

Toian Vaughn,
Committee Management Officer, Substance Abuse and Mental Health Services Administration.

[FR Doc. E8-3058 Filed 2-19-08; 8:45 am]

BILLING CODE 4162-20-P